DEPARTMENT OF ENERGY

Federal Energy Regulatory Commission

[Project Nos. 2161-034; 2207-045]

Wausau Paper Mills, LLC; Specialty Papers Acquisition, LLC; Notice of Application for Transfer of Licenses, and Soliciting Comments and Motions To Intervene

On April 22, 2013, Wausau Paper Mills, LLC (transferor) and Specialty Papers Acquisition, LLC (transferee) filed an application for transfer of licenses for the Rhinelander Hydroelectric Project, FERC No. 2161 and the Mosinee Hydroelectric Project, FERC No. 2207. The Rhinelander Hydroelectric Project is located on the upper Wisconsin River in Oneida County, Wisconsin. The Mosinee Hydroelectric Project is located on the Wisconsin River in Marathon County, Wisconsin.

Applicants seek Commission approval to transfer the licenses for Rhinelander Hydroelectric Project and the Mosinee Hydroelectric Project from transferor to transferee.

Applicants' Contact: Transferor: Ms. Elizabeth W. Whittle, Partner, Nixon Peabody LLP, 401 Ninth Street NW., Suite 900, Washington, DC 20004, telephone (202) 585-8338. For Transferee: Mr. Carl L. Reisner, Partner, Paul, Weiss, Rifkind, Wharton & Garrison LLP, 1285 Avenue of the Americas, New York, NY 10019-6064, telephone (212) 373-3017.

FERC Contact: Patricia W. Gillis (202) 502-8735.

Deadline for filing comments and motions to intervene: 30 days from the issuance date of this notice by the Commission. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket numbers (P-2161 or P-2207) in the docket number field to access the document. For assistance, call toll-free 1-866-208-3372.

Dated: May 30, 2013.
Kimberly D. Bose,
Secretary.

[FR Doc. 2013-13401 Filed 6-5-13; 8:45 am]

BILLING CODE 6717-01-P